DEPARTMENT OF DEFENSE

Department of the Army; Corps of Engineers

Notice of Intent To Prepare an Environmental Impact Statement for the Elliott Bay Seawall Project, Seattle, WA

AGENCY: Department of the Army, U.S. Army Corps of Engineers, DoD.

ACTION: Notice of intent.

SUMMARY: Pursuant to section 102(2)(C) of the National Environmental Policy Act (NEPA) of 1969, as amended, the U.S. Army Corps of Engineers (USACE) will prepare an Environmental Impact Statement (EIS) for a proposed seawall replacement project along the Elliott Bay shoreline in Seattle, WA. The City of Seattle is the non-Federal sponsor for the project.

The Feasibility Study for the Elliott Bay Seawall is being conducted under the authority of Section 209 (Puget Sound and Adjacent Waters) of the Flood Control Act of 1962 (Pub. L. 87-874). The Reconnaissance Study was initiated following specific authorization by the Committee on Transportation and Infrastructure, U.S. House of Representatives, House Resolution 2704, dated September 25, 2002. The Feasibility Study was initiated in August 2004 with signing of a Feasibility Cost Sharing Agreement between U.S. Army Corps of Engineers, Seattle District (USACE) and the City of Seattle, Washington (City). The Feasibility Study authority was subsequently modified in Section 4096(a) of WRDA 2007 to include an evaluation of reducing future damages to the seawall from seismic activity.

The existing Elliott Bay Seawall (seawall) provides protection to Seattle's downtown waterfront from storm waves and the erosive tidal forces of Puget Sound. It supports Seattle's waterfront surface street, Alaskan Way and other critical transportation infrastructure (including the Burlington Northern—Santa Fe Railway main line) and utilities that serve downtown Seattle (including water, electric, gas/petroleum, steam, communications, sanitary sewers and storm water drainage). The Seawall also protects numerous commercial, public and residential structures and facilities, including the Washington State Ferry Terminal at Coleman Dock, Seattle's busiest fire station, the Seattle Aquarium, and the Port of Seattle. The seawall is 75 years old and is reaching the end of its useful design life. The timber elements of the structure have experienced significant decay and deterioration from continued exposure to storm waves and tides, leading to potential structural instability. Seawall structural instability, and the likely further deterioration from future waves and tidal forces, is putting a tremendous amount of public and private infrastructure, residential and business development, and transportation facilities at risk of being damaged from several different types of failure. An earthquake of moderate intensity and/or duration can cause liquefaction of the soils supported by the wall, resulting in loading conditions for which the structure was not designed. Failure of the seawall under any of these circumstances would result in a high risk to public safety and substantial environmental degradation from subsequent storm-generated waves and tidal forces.

The purpose of the proposed rehabilitation effort is to protect public safety, critical infrastructure and associated economic activities along the Elliott Bay shoreline from expected future damages associated with coastal storms, shoreline erosion and earthquake damage that could lead to failure of the existing seawall.

DATES: Submit comments by July 19, 2010 on the scope of issues to be addressed in the Environmental Impact Statement (DEIS).

ADDRESSES: Address all comments concerning this notice to Mr. Patrick Cagney, U.S. Army Corps of Engineers, Seattle District, P.O. Box 3755, Seattle, WA 98124-3755. Submit electronic comments and supporting data to patrick.t.cagney@usace.army.mil

FOR FURTHER INFORMATION CONTACT: Questions regarding the scoping process or preparation of the DEIS may be directed to Mr. Patrick Cagney, telephone (206) 764-3654, email patrick.t.cagney@usace.army.mil .

SUPPLEMENTARY INFORMATION: 1. Proposed Action: The Elliott Bay Seawall extends for a distance of approximately 7,166 feet along Seattle's waterfront, between Washington Street to the south and Broad Street to the north. The proposed action would involve an extensive structural rebuild or replacement of the seawall in order to reduce damage resulting from storms, tidal forces, erosion and earthquakes.

The proposed action was previously considered along with the proposed replacement of the State Route (SR) 99 Alaskan Way Viaduct, which runs parallel to a portion of the seawall. The SR 99 Alaskan Way Viaduct and Seawall Replacement Project Draft Environmental Impact Statement (AWVSRP DEIS) was issued by the U.S. Department of Transportation Federal Highway Administration (FHWA), Washington State Department of Transportation (WSDOT), and City of Seattle on April 9, 2004 (69 FR 18898). A Supplemental Draft Environmental Impact Statement (AWVSRP SDEIS 1) was issued by the same parties on July 28, 2006 (72 FR 42846). The AWVSRP DEIS and SDEIS 1 included evaluation of the rebuilding of the Alaskan Way Seawall because it is essential to the function of transportation facilities and is at risk of collapsing in a large earthquake. The geographic area covered in the AWVSRP DEIS and SDEIS 1 was virtually the same as the study area proposed by the USACE.

The USACE EIS will evaluate the seawall from a coastal storm and earthquake damage reduction perspective; the seawall is the primary focus of the analysis. The USACE is reviewing the existing body of work and coordinating closely with the city of Seattle, FHWA, and WSDOT to incorporate all relevant material from their NEPA efforts, share information, and reduce duplication of efforts.

2. Alternatives: A number of seawall replacement alternatives are being considered including the no action alternative. Several structural, non-structural and construction technique options will be considered including soil improvement, secant piles, and buttress fill, among others; more than one option may be included in the preferred alternative. Additionally; in conjunction with any of the structural options, the seawall alignment will be considered; examining where the seawall face can be reconstructed in the existing alignment or if it can be pulled back landward. Similarly, habitat restoration and recreational access options will be considered with any of the structural options. Public input is specifically invited regarding the reasonableness of the build alternatives and whether any additional alternatives are appropriate for consideration.

3. Scoping and Public Involvement: An initial notice of intent for this project was issued on March 31, 2006 (71 FR 16293). Since that time, the scope of the project has changed to include the evaluation of seismic damages and to consider additional alternatives. This present notice of intent formally re-commences the scoping process under NEPA. As part of the scoping process, all affected Federal, State and local agencies, Native American Tribes, private organizations, and the public are invited to comment on the scope of the EIS. To date, the following issues of concern have been identified for in-depth analysis in the draft EIS: (1) Construction impacts, particularly those related to noise, transportation, and effects to businesses and residences within/adjacent to the construction zone; (2) impacts associated with potential variations of the existing seawall alignment; (3) potential impacts to historical properties; and (4) potential benefits to the Elliott Bay aquatic ecosystem.

4. Scoping Meeting: One public scoping meeting will be held to identify issues of major concern, identify studies that might be needed in order to analyze and evaluate impacts, and obtain public input on the range and acceptability of alternatives. This meeting will be held at the Bell Harbor International Conference Center, Pier 66 on Wednesday, June 16, 2010. An informal open house will be held between 4 and 5:30 p.m. A presentation to summarize the purpose of scoping and existing information will be made between 5:30 and 6 p.m. Then, testimony will be taken between 6 and 7 p.m. Verbal (maximum 3 minutes) or written comments will be accepted at the scoping meeting or written comments may be sent by regular or electronic mail to EIS Scoping Comments c/o Patrick Cagney (see ADDRESSES). Ongoing communication with agencies, Native American tribes, public interest groups, and interested citizens will take place throughout the EIS development through the use of public meetings, mailings, and the Internet. Additional meetings will be scheduled upon completion of the DEIS.

5. Other Environmental Review Coordination and Permit Requirements: The environmental review process will be comprehensive and will satisfy the requirements of both NEPA and the Washington State Environmental Policy Act (SEPA) per preparation of a joint NEPA/SEPA document with the City of Seattle. All other relevant Federal, State and local environmental laws will be complied with during the feasibility and/or design phases of the project.

Dated: May 20, 2010.
Anthony Wright,
Colonel, Corps of Engineers, District Commander.

[FR Doc. 2010-12878 Filed 5-27-10; 8:45 am]

BILLING CODE 3720-58-P